DEPARTMENT OF THE INTERIOR

National Park Service

[NPS-WASO-NAGPRA-NPS0036765; PPWOCRADN0-PCU00RP14.R50000]

Notice of Inventory Completion: Cobb Institute of Archaeology, Mississippi State University, Mississippi State, MS

AGENCY: National Park Service, Interior.

ACTION: Notice.

SUMMARY: In accordance with the Native American Graves Protection and Repatriation Act (NAGPRA), the Cobb Institute of Archaeology, Mississippi State University (CIA) has completed an inventory of human remains and associated funerary objects and has determined that there is a cultural affiliation between the human remains and associated funerary objects and Indian Tribes or Native Hawaiian organizations in this notice. The human remains and associated funerary objects were removed from Oktibbeha County, MS.

DATES: Repatriation of the human remains and associated funerary objects in this notice may occur on or after November 22, 2023.

ADDRESSES: Jimmy Hardin, CIA Director; Tony Boudreaux, CIA Curator; and Shawn Lambert, Assistant Professor and NAGPRA Coordinator, Cobb Institute of Archaeology, 340 Lee Boulevard, Mississippi State, MS 39762, telephone (662) 325-3826, email sl2042@msstate.edu.

SUPPLEMENTARY INFORMATION: This notice is published as part of the National Park Service's administrative responsibilities under NAGPRA. The determinations in this notice are the sole responsibility of the Cobb Institute of Archaeology. The National Park Service is not responsible for the determinations in this notice. Additional information on the determinations in this notice, including the results of consultation, can be found in the inventory or related records held by the Cobb Institute of Archaeology.

Description

Human remains representing, at minimum, 157 individuals were removed from Oktibbeha County, MS. Lyon's Bluff (22OK520) is a mound and village complex located in the Black Prairie region in northeastern Oktibbeha County, MS. The site was first occupied between A.D. 1100 and 1650. During archeological work in 2021, a second Choctaw occupation, dating from the late 1700s to circa 1850, was discovered.

In the summers of 1934 and 1935, Moreau Chambers, in association with the Mississippi Department of Archives and History (MDAH), undertook the first excavations at Lyon's Bluff. Chambers never formally documented the field work, and the finds he recovered were thought to be lost. Recently, human remains belonging to five individuals removed by Chambers were discovered at MDAH, and in 2022, they were transferred to the Cobb Institute of Archaeology.

In 1965, Richard Marshall, an archeologist at Mississippi State University, together with members of the Mississippi Archaeological Association (MAA) in Oktibbeha County, excavated a midden area in the northeast areas of the site. In 1967, Marshall and others from Mississippi State University and the University of Mississippi conducted a joint field school, during which two large blocks were excavated and the human remains of, at minimum, 67 individuals were removed and sent to Mississippi State University. Marshall continued to excavate at Lyon's Bluff throughout the late 1960s and early 1970s, during which he removed additional burials.

Following Marshall's excavations, Mississippi State University continued to hold field schools at Lyon's Bluff, in 2001 and 2003. Most recently, in the summer of 2021, Shawn Lambert, Assistant Professor at Mississippi State University, in collaboration with the Choctaw, led an archeological survey and excavation at the site. Their work revealed a significant historic Choctaw component overlying three pre-European Contact house mounds.

The 442 associated funerary objects are 75 lots consisting of ceramics sherds, 56 shell fragments, 143 lots consisting of faunal remains, 25 pieces of lithic debitage, 10 stone tools, 45 lots consisting of daub, one worked fossil, eight charcoal samples, seven soil samples, five bone awls, three pieces of fired clay, two drilled bear teeth, one charred corn cob, two pieces of limestone, two turtle shells, one necklace composed of shell beads and bear teeth, four ceramic ear plugs, one stone, three ground stones, two shell beads, three charred acorns, one charred seed, 10 pieces of sandstone, 11 worked shells, two greenstone celts, six bone tools, four ceramic discoidals, two shell gorgets, one fire-cracked rock, one partial stone palette, one nail, one gorget composed of incised turtle shell, one stone ear plug, one nutting stone, and one utilized deer antler.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, oral traditional, and other information or expert opinion.

Determinations

Pursuant to NAGPRA and its implementing regulations, and after consultation with the appropriate Indian Tribes and Native Hawaiian organizations, the Cobb Institute of Archaeology has determined that:

• The human remains described in this notice represent the physical remains of 157 individuals of Native American ancestry.

• The 442 objects described in this notice are reasonably believed to have been placed with or near individual human remains at the time of death or later as part of the death rite or ceremony.

• There is a relationship of shared group identity that can be reasonably traced between the human remains and associated funerary objects described in this notice and the Jena Band of Choctaw Indians; Mississippi Band of Choctaw Indians; and The Choctaw Nation of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after November 22, 2023. If competing requests for repatriation are received, the Cobb Institute of Archaeology must determine the most appropriate requestor prior to repatriation. Requests for joint repatriation of the human remains and associated funerary objects are considered a single request and not competing requests. The Cobb Institute of Archaeology is responsible for sending a copy of this notice to the Indian Tribes identified in this notice.

Authority: Native American Graves Protection and Repatriation Act, 25 U.S.C. 3003, and the implementing regulations, 43 CFR 10.9, 10.10, and 10.14.

Dated: October 11, 2023.
Melanie O'Brien,
Manager, National NAGPRA Program.

[FR Doc. 2023-23288 Filed 10-20-23; 8:45 am]

BILLING CODE 4312-52-P